DEPARTMENT OF THE TREASURY

United States Mint

Establish Prices for 2023 United States Mint Numismatic Products

AGENCY: United States Mint, Department of the Treasury.

ACTION: Notice.

The United States Mint is announcing pricing for United States Mint numismatic products in accordance with the table below:

Product | 2023 Retail price
American Eagle Silver Proof Coin (W) | $80
American Eagle Silver Proof Coin (S) | 80
American Eagle Silver Uncirculated Coin | 76
United States Mint Proof Set ® | 35
United States Mint Silver Proof Set ® | 130
United States Mint Limited Edition Silver Proof Set ™ | 220
United States Mint Uncirculated Coin Set ® | 29
United States Mint Congratulations Set | 82
American Women Quarters Proof Set ™ | 23
American Women Quarters Silver Proof Set ™ | 80
Morgan Dollar—Proof | 80
Morgan Dollar—Uncirculated | 76
Peace Dollar—Proof | 80
Peace Dollar—Uncirculated | 76
American Liberty Silver Medal ™ | 82
United States Mint Ornament | 35
Mighty Minters Ornament ™ | 35
American Women Quarters Ornament ™ | 35
American Women Quarters 100-Coin Bag ™—Philadelphia | 45
American Women Quarters 100-Coin Bag ™—Denver | 45
American Women Quarters Two-Roll Set ™ —Philadelphia, Denver | 40
American Women Quarters Three-Roll Set ™— Philadelphia, Denver, San Francisco | 60

FOR FURTHER INFORMATION CONTACT: Jennifer Creque; United States Mint; 801 9th Street NW, Washington, DC 20220; or call 1-800-354-8489.

Authority: 31 U.S.C. 5111, 5112, 5132, & 9701.

Eric Anderson,
Executive Secretary, United States Mint.

[FR Doc. 2023-02553 Filed 2-7-23; 8:45 am]

BILLING CODE 4810-37-P